DEPARTMENT OF AGRICULTURE

Foreign Agricultural Service

Trade Adjustment Assistance for Farmers

AGENCY: Foreign Agricultural Service, USDA.

ACTION: Notice.

The Administrator, Foreign Agricultural Service (FAS), today denied a petition for trade adjustment assistance (TAA) that was filed on February 23, 2004, by the National Alfalfa Alliance, representing non-certified (common) alfalfa seed producers in the states of California, Colorado, Idaho, Montana, Nevada, Oregon, Washington, and Wyoming.

SUPPLEMENTARY INFORMATION: Upon investigation, the Administrator determined that alfalfa seed prices did not decline by more than 20 percent during the January-December 2002 marketing year, compared to the previous 5-year average, a condition required for certifying a petition for TAA.

FOR FURTHER INFORMATION CONTACT: Jean-Louis Pajot, Coordinator, Trade Adjustment Assistance for Farmers, FAS, USDA, (202) 720-2916, email: trade.assistance@fas.usda.gov.

Dated: March 31, 2004.
A. Ellen Terpstra,
Administrator, Foreign Agricultural Service.

[FR Doc. 04-7763 Filed 4-2-04; 8:45 am]

BILLING CODE 4310-10-M